EXPORT-IMPORT BANK OF THE UNITED STATES

[Public Notice 2017-6007]

Agency Information Collection Activities: Comment Request

AGENCY: Export-Import Bank of the U.S.

ACTION: Submission for OMB review and comments request.

Form Title: EIB 11-03, Used Equipment Questionnaire.

SUMMARY: The Export-Import Bank of the United States (Ex-Im Bank), as a part of its continuing effort to reduce paperwork and respondent burden, invites the general public and other Federal Agencies to comment on the proposed information collection, as required by the Paperwork Reduction Act of 1995.

This collection will provide information needed to determine compliance and creditworthiness for transaction requests involving previously-owned equipment submitted to Ex-Im Bank under its insurance, guarantee, and direct loan programs. Information presented in this form will be considered in the overall evaluation of the transaction, including Export-Import Bank's determination of the appropriate term for the transaction.

The form can be viewed at: https://www.exim.gov/sites/default/files/forms/eib11-03.pdf.

DATES: Comments should be received on or before December 4, 2017, to be assured of consideration.

ADDRESSES: Comments may be submitted electronically on http://www.regulations.gov or by mail to Mardel West, Export-Import Bank of the United States, 811 Vermont Avenue NW., Washington, DC 20571.

SUPPLEMENTARY INFORMATION:

Titles and Form Number: EIB 11-03, Used Equipment Questionnaire.

OMB Number: 3048-0039.

Type of Review: Regular.

Need and Use: The information collected will provide information needed to determine compliance and creditworthiness for transaction requests involving previously-owned equipment submitted to the Export Import Bank under its insurance, guarantee, and direct loan programs.

Affected Public

This form affects entities involved in the export of U.S. goods and services.

Annual Number of Respondents: 1,000.

Estimated Time per Respondent: 15 minutes.

Annual Burden Hours: 250 hours.

Frequency of Reporting or Use: As needed.

Government Expenses

Reviewing Time per Year: 250 hours.

Average Wages per Hour: $42.50.

Average Cost per Year: $10,625 (time * wages).

Benefits and Overhead: 20%.

Total Government Cost: $12,750.

Bassam Doughman,
IT Specialist.

[FR Doc. 2017-21306 Filed 10-3-17; 8:45 am]

BILLING CODE 6690-01-P